DEPARTMENT OF HEALTH AND HUMAN SERVICES

National Institutes of Health

National Heart, Lung, and Blood Institute; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commerical property such as patentable material, and personal information concerning individuals associated with the grant applications, the disclosure of which would constitute a clearly unwarranted invasion of personal privacy.

Name of Committe: National Heart, Lung, and Blood Institute Special Emphasis Panel, Research Program Project in Hypertension Management.

Date: October 4, 2006.

Time: 8 a.m. to 12 p.m.

Agenda: To review and evaluate grant applications.

Place: Hilton Garden Inn Washington DC Franklin Square, 815 14th Street, NW., Washington, DC 20005.

Contact Person: Holly Patton, PhD, Scientific Review Administrator, Review Branch/Division of Extramural Affairs, National Heart, Lung, and Blood Institute, Two Rockledge Center, 7188, 6701 Rockledge Dr, Bethesda, MD 20892, 301-435-0280. pattonh@nhlbi.nih.gov.

Name of Committe: National Heart, Lung, and Blood Institute Special Emphasis Panel, Midcareer Investigator Award in Patient-Oriented Research—K24.

Date: November 2, 2006.

Time: 12 p.m. to 1 p.m.

Agenda: To review and evaluate grant applications.

Place: Courtyard Arlington Crystal City/Reagon National, 2899 Jefferson Davis Hwy., Arlington, VA 22202.

Contact Person: Mark Roltsch, PhD, Scientific Review Administrator, Review Branch, NHLBI, National Institutes of Health, 6701 Rockledge Drive, Room 7192, Bethesda, MD 20892, 301-435-0287. roltschm@mail.nih.gov.

Any interested person may file written comments with the committee by forwarding the statement to the Contact Person listed on this notice. The statement should include the name, address, telephone number and when applicable, the business or professional affiliation of the interested person.

(Catalogue of Federal Domestic Assistance Program Nos. 93.233, National Center for Sleep Disorders Research; 93.837, Heart and Vascular Diseases Research; 93.838, Lung Diseases Research; 93.839, Blood Diseases and Resources Research, National Institutes of Health, HHS)

Dated: September 8, 2006.
Anna Snouffer,
Acting Director, Office of Federal Advisory Committee Policy.

[FR Doc. 06-7669 Filed 9-14-06; 8:45 am]

BILLING CODE 4140-01-M